ENVIRONMENTAL PROTECTION AGENCY

[EPA-R08-SFUND-2022-0328; FRL-9757-01-R8]

CERCLA Administrative Settlement Agreement for Removal Action and Payment of Response Costs by Prospective Purchaser, Idaho Pole Company Superfund Site, Bozeman, Montana

AGENCY: Environmental Protection Agency (EPA).

ACTION: Notice of proposed agreement; request for public comment.

SUMMARY: Notice is hereby given by the U.S. Environmental Protection Agency (EPA), Region 8, of a prospective purchaser settlement agreement embodied in an “Administrative Settlement Agreement for Removal Action and Payment of Response Costs by Prospective Purchaser,” with State of Montana (“State”), and the prospective purchaser, Scout DAC, LLC (“Purchaser”). This agreement provides for the performance of a removal action by Purchaser and the payment of certain response costs incurred by the United States at or in connection with the property located at Cedar Street, Bozeman, Montana 59715 near the northern limits of Bozeman, Montana, in the east half of Section 6 and the west half of Section 5, Township 28, Range 6E of Gallatin County (the “Property”), which is part of the Idaho Pole Company Superfund Site (“Site”).

DATES: Comments must be submitted on or before June 13, 2022.

ADDRESSES: The proposed agreement and additional background information relating to the agreement will be available upon request. To reduce the risk of COVID-19 transmission, for this action we do not plan to offer hard copy review of the docket. Comments and requests for a copy of the proposed agreement should be addressed to Julie Nicholson, Enforcement Specialist, Superfund and Emergency Management Division, Environmental Protection Agency—Region 8, Mail Code 8SEM-PAC, 1595 Wynkoop Street, Denver, Colorado 80202, (303) 312-6343, nicholson.julie@epa.gov and Kayleen Castelli, Senior Assistant Regional Counsel, Office of Regional Counsel, Environmental Protection Agency, Region 8, Mail Code 8ORC-C, 1595 Wynkoop, Denver, Colorado 80202, email address: castelli.kayleen@epa.gov and should reference the Idaho Pole Company Superfund Site.

You may also send comments, identified by Docket ID No. EPA-R08-SFUND-2022-0328 to http://www.regulations.gov. Follow the online instructions for submitting comments.

FOR FURTHER INFORMATION CONTACT: Kayleen Castelli, Senior Assistant Regional Counsel, Office of Regional Counsel, Environmental Protection Agency, Region 8, Mail Code 8ORC-C, 1595 Wynkoop, Denver, Colorado 80202, telephone number: (303) 312-6143, email address: castelli.kayleen@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Betsy Smidinger,
Division Director, Superfund and Emergency Management Division, Region 8.

[FR Doc. 2022-10381 Filed 5-12-22; 8:45 am]

BILLING CODE 6560-50-P